DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: “Health Care and Other Facilities” Construction Program: Web-Based Status Reporting Form: NEW

The Health Resources and Services Administration's Health Care and Other Facilities (HCOF) construction program provides earmarked funds to health-related facilities for construction-related activities and/or capital equipment purchases. Awarded facilities are required to provide a periodic (quarterly for construction-related projects, annually for equipment only projects) update of the status of the funded project until it is completed. The monitoring period averages about 3 years, although some projects take up to 5 years to complete. The information collected from these updates is vital to program management staff to determine whether projects are progressing according to the established timeframes, meeting deadlines established in the Notice of Grant Award (NGA), and funds are drawn down appropriately. The data collected from the updates is also shared with both the Division of Grants Management Operations (DGMO) and the Division of Engineering Services (DES), so that they can assist in the overall evaluation of each project's progress.

A Web-based form has been developed for progress reporting for the HCOF program. This form will provide awardees access to directly input the required status update information in a timely, consistent, and uniform manner. The Web-based form will minimize burden to respondents and will inform respondents when there are missing data elements prior to submission.

The estimate of burden for the forms is as follows:

Project type (current) | Number of respondents | Responses per respondent | Total responses | Hours per response | Total burden hours
Construction-Related | 325 | 4 | 1,300 | .5 | 650
Equipment Only | 357 | 1 | 357 | .5 | 178.5
Total | 682 |  | 1,657 |  | 828.5

Project type (FY 07-09 projection) | Number of respondents | Responses per respondent | Total responses | Hours per response | Total burden hours
Construction-Related* | 498 | 4 | 1,992 | .5 | 996
Equipment Only** | 925 | 1 | 925 | .5 | 462.5
Total | 1,423 |  | 2,917 |  | 1,458

Send comments to Susan G. Queen, Ph.D., HRSA Reports Clearance Officer, Room 10-33, Parklawn Building, 5600 Fishers Lane, Rockville, MD 20857. Written comments should be received within 60 days of this notice.

Dated: January 29, 2007.
Caroline Lewis,
Acting Associate Administrator for Administration and Financial Management.

[FR Doc. E7-1825 Filed 2-5-07; 8:45 am]

BILLING CODE 4165-15-P